DEPARTMENT OF HEALTH AND HUMAN SERVICES

Centers for Disease Control and Prevention

National Task Force on Fetal Alcohol Syndrome and Fetal Alcohol Effect Meeting

In accordance with section 10(a)(2) of the Federal Advisory Committee Act (Pub. L. 92-463), the Centers for Disease Control and Prevention (CDC) announces the following committee meeting.

Name: National Task Force on Fetal Alcohol Syndrome and Fetal Alcohol Effect (NTFFASFAE).

Times and Dates: 9 a.m.—4:30 p.m., June 16, 2004. 9 a.m.—12 noon, June 17, 2004.

Place: Doubletree Hotel Atlanta/Buckhead, 3342 Peachtree Road, NE., Atlanta, Georgia 30326, telephone 404/231-1234, fax 404/231-3112.

Status: Open to the public, limited only by the space available. The meeting room accommodates approximately 65 people.

Purpose: The Secretary is authorized by the Public Health Service Act, Section 399G, (42 U.S.C. Section 280f, as added by Public Law 105-392) to establish a National Task Force on Fetal Alcohol Syndrome and Fetal Alcohol Effect to:

(1) Foster coordination among all governmental agencies, academic bodies and community groups that conduct or support Fetal Alcohol Syndrome (FAS) and Fetal Alcohol Effect (FAE) research, programs and surveillance; and

(2) To otherwise meet the general needs of populations actually or potentially impacted by FAS and FAE.

Matters to be Discussed: Agenda items include: a review of the September 2002 Task Force Recommendations and the activities undertaken by Federal and non-governmental agencies and organizations in response to the recommendations; the identification of priority areas for the current Task Force; and the reconvening of the Research working group and the Services and Public Awareness working group. Additional agenda items include: updates from Task Force members on current initiatives; an update on activities from the Interagency Coordinating Committee on Fetal Alcohol Syndrome, the CDC and other Federal agencies; reports from Task Force liaison organizations; future topics, and scheduling the next meeting.

Agenda items are subject to change as priorities dictate.

Due to programmatic issues that had to be resolved, the Federal Register notice is being published less than fifteen days before the date of the meeting.

For Further Information Contact: R. Louise Floyd, DSN, RN, Designated Federal Official, National Center on Birth Defects and Developmental Disabilities, CDC, 1600 Clifton Road, NE, (E-86), Atlanta, Georgia 30333, telephone 404/498-3923, fax 404/498-3550.

The Director, Management Analysis and Services Office, has been delegated the authority to sign Federal Register notices pertaining to announcements of meetings and other committee management activities for both the CDC and ATSDR.

Dated: May 28, 2004.
Alvin Hall,
Director, Management Analysis and Services Office, Centers for Disease Control and Prevention.

[FR Doc. 04-12675 Filed 6-3-04; 8:45 am]

BILLING CODE 4163-18-P